DEPARTMENT OF EDUCATION

Notice of Proposed Information Collection Requests

AGENCY: Department of Education.

SUMMARY: The IC Clearance Official, Regulatory Information Management Services, Office of Management, invites comments on the proposed information collection requests as required by the Paperwork Reduction Act of 1995.

DATES: Interested persons are invited to submit comments on or before August 11, 2008.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: June 6, 2008.
Angela C. Arrington,
IC Clearance Official, Regulatory Information Management Services, Office of Management.

Office of Elementary and Secondary Education

Type of Review: Revision.

Title: Consolidated State Performance Report (Part I and Part II).

Frequency: Annually.

Affected Public: State, Local, or Tribal Gov't, SEAs or LEAs.

Reporting and Recordkeeping Hour Burden:

Responses: 53.

Burden Hours: 29,707.

Abstract: The Consolidated State Performance Report (CSPR) is the required annual reporting tool for each State, Bureau of Indian Education, District of Columbia, and Puerto Rico as authorized under Section 9303 of the Elementary and Secondary Education Act (ESEA), as amended by the No Child Left Behind Act of 2001 (NCLB).

Additional Information:

Focused Question for Public Comment: EDFacts Data Linkages for Prepopulation of CSPR.

The SY 2006-07 CSPR contained questions that were “Initially Pre-populated from EDFacts.” The “Initial Prepopulation” strategy allowed CSPR coordinators the flexibility to use either the data submitted through EDFacts or an alternative data source to respond to questions on the CSPR. An unintended consequence of this strategy was that states could provide the Department two different answers to the same question, one answer provided through EDFacts and a different response submitted by the state's CSPR coordinator.

It is ED's intention and desire to move as many of those questions, which were “Initially prepopulated” in 2006-07 to full utilization of EDFacts Submissions for 2007-08. As a result, CSPR coordinators will only be able to amend responses to their state's CSPR by working with their EDFacts coordinator to resubmit a file through EDFacts. The Department plans to move cautiously towards this new strategy by carefully reviewing each state's EdFacts transition agreement to ensure that all states will continue to have the capacity to submit their CSPR to the Department in a timely manner and with complete and accurate information.

Since the Transition Agreements covering data on the 2007-08 school year have not been finalized, the Department has not had the opportunity to determine which questions on the 2007-08 CSPR will be exclusively pre-populated by data submitted through EDFacts.

In order to not delay the publication of the SY 2007-08 CSPR for public comment, we have set questions, which were initially prepopulated in 2006-07 back to “Manual Entry” for this 2007-08 CSPR package.

The Department is soliciting public comment from the states on the viability of moving any or all of the following questions, which were initially pre-populated in 2006-07 to exclusive pre-population for 2007-08 or 2008-09.

Questions on the 2007-08 CSPR which were “Initially Prepopulated from EDFacts” in 2006-07 are listed below:

Question No. | Descriptor
1.3.1 | Student Achievement in Mathematics.
1.3.2 | Student Achievement in Reading Language Arts.
1.4.3 | Accountability of Districts That Received Title I Funds.
1.4.9.1.2 | Public School Choice—Students.
1.4.9.1.3 | Funds Spent on Public School Choice.
1.4.9.2.2 | Supplemental Educational Services—Students.
1.4.9.2.3 | Funds Spent on Supplemental Educational Services.
1.6.5.1 | Immigrant Students.
1.8.1 | Graduation Rates.
1.9.2.1 | Homeless Children and Youths Served by McKinney-Vento Subgrants.
1.9.2.2 | Subpopulations of Homeless Students Served.
1.9.2.5.1 | Reading Assessment.
1.9.2.5.2 | Mathematics Assessment.
1.10.1 | Category 1 Child Count.
1.10.2 | Category 2 Child Count.
2.3.1.1 | Eligible Migrant Children.
2.3.1.2 | Priority for Services.
2.3.1.3 | Limited English Proficient.
2.3.1.4 | Children with Disabilities (IDEA).
2.3.2.1 | Dropouts.
2.3.2.3.1 | Reading/Language Arts Participation.
2.3.3.1.1 | MEP Students Served During the Regular School Year.
2.3.3.1.2 | Priority for Services—During the Regular School Year.
2.3.3.3 | MEP Participation—Program Year.
2.3.4.1 | Schools and Enrollment.
2.3.4.2 | Schools Where MEP Funds Were Consolidated in Schoolwide Programs.
2.3.6.1.2 | MEP Staff.
2.4.1.2 | Students Served—Subpart 1.
2.4.1.6.1 | Academic Performance in Reading—Subpart 1.
2.4.1.6.2 | Academic Performance in Mathematics—Subpart 1.
2.4.2.6.1 | Academic Performance in Reading—Subpart 2.
2.4.2.6.2 | Academic Performance in Mathematics—Subpart 2.
2.7.2.1 | State Definitions.
2.7.2.2.1 | Out-of-School Suspensions for Violent Incident Without Physical Injury.
2.7.2.2.2 | Out-of-School Expulsions for Violent Incident Without Physical Injury.
2.7.2.3.1 | Out-of-School Suspensions for Violent Incident with Physical Injury.
2.7.2.3.2 | Out-of-School Expulsions for Violent Incident with Physical Injury.
2.7.2.4.1 | Out-of-School Suspensions for Weapons Possession.
2.7.2.4.2 | Out-of-School Expulsions for Weapons Possession.
2.7.2.5.1 | Out-of-School Suspensions for Alcohol-Related Incidents.
2.7.2.5.2 | Out-of-School Expulsions for Alcohol-Related Incidents.
2.7.2.6.1 | Out-of-School Suspensions for Illicit Drug-Related Incidents.
2.7.2.6.2 | Out-of-School Expulsions for Illicit Drug-Related Incidents.

Requests for copies of the proposed information collection request may be accessed from http://edicsweb.ed.gov, by selecting the “Browse Pending Collections” link and by clicking on link number 3718. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-13195 Filed 6-11-08; 8:45 am]

BILLING CODE 4000-01-P